DEPARTMENT OF ENERGY

Federal Energy Regulatory Commission

Notice of Application Tendered for Filing with the Commission and Soliciting Additional Study Requests

May 29, 2001.

Take notice that the following hydroelectric application has been filed with the Commission and is available for public inspection.

a. Type of Application: Original Major License.

b. Project No.: P-12020-000.

c. Date filed: May 14, 2001.

d. Applicant: Marseilles Hydro Power, LLC.

e. Name of Project: Marseilles Hydroelectric Project.

f. Location: On the Illinois River, in the Town of Marseilles, La Salle County, Illinois. The project affects 0.6 acres of public lands owned by the U.S. Army Corps of Engineers.

g. Filed Pursuant to: Federal Power Act 16 U.S.C. 791(a)-825(r).

h. Applicant Contact: Mr. Loyal Gake, P.E., Marseilles Hydro Power, LLC, 116 State Street, P.O. Box 167, Neshkoro, WI 54960.

i. FERC Contact: Steve Kartalia, (202) 219-2942 or stephen.kartalia@FERC.fed.us

j. Deadline for filing additional study requests: July 13, 2001.

All documents (original and eight copies) should be filed with: David P. Boergers, Secretary, Federal Energy Regulatory Commission, 888 First Street, NE., Washington, DC 20426. Comments, protests, interventions and additional study requests may be filed electronically via the internet in lieu of paper. See 18 CFR 385.2001(a)(1)(iii) and the instructions on the Commission's web site at http://www.ferc.fed.us/efi/doorbell.htm.

The Commission's Rules of Practice require all intervenors filing documents with the Commission to serve a copy that document on each person on the official service list for the project. Further, if an intervenor files comments or documents with the Commission relating to the merits of an issue that may affect the responsibilities of a particular resource agency, they must also serve a copy of the document on that resource agency.

k. The application is not ready for environmental analysis at this time.

l. The Marseilles Hydroelectric Project utilizes the Marseilles Dam and Reservoir which is owned and operated by the U.S. Army Corps of Engineers. The existing run-of-river project consists of: (1) A 55-foot-high by 40-foot-wide by 229-foot-long reinforced concrete powerhouse, housing thirteen generating units for a total installed capacity of 4,745-kW; (2) a head gate structure consisting of an fixed dam approximately 95 feet long on the left (west) side and two steel 15-foot-high and 60-foot-wide gates on the right (east) side; (3) the North Channel Headrace which is approximately 2,730-foot-long, 15-foot-deep, and varies between 800- to 200-foot-wide and conveys water from the head gates to the powerhouse; (4) a new 210-foot-long trash racks along the upstream side of the forebay area set at 10-degree angle in 18 feet of water with an additional set of 40-foot-long trash racks along the wall between the turbine forebay and the sluiceway on the right (west) side of the powerhouse and set vertically in 15 feet of water; and (5) appurtenant facilities.

The applicant proposed to rebuild the project in two phases: (a) In the first phase, seven generating units will be restored to operation; and (b) in the second phase, the remaining six generating units will be restored. The total project capacity will be 4,745 kW with an annual average generation of 34,000 MWh.

m. A copy of the application is available for inspection and reproduction at the Commission's Public Reference Room, located at 888 First Street, NE., Room 2-A, Washington, DC 20426, or by calling (202) 208-1371. The application may be viewed on http://www.ferc.fed.us/online/rims.htm (call (202) 208-2222 for assistance). A copy is also available for inspection and reproduction at the address in item h above.

David P. Boergers,
Secretary.

[FR Doc. 01-13877 Filed 6-1-01; 8:45 am]

BILLING CODE 6717-01-M